DEPARTMENT OF THE TREASURY

Community Development Financial Institutions Fund

Notice of Funds Availability Inviting Applications for the Community Development Financial Institutions Program—Technical Assistance Component: New Application Deadline

AGENCY: Community Development Financial Institutions Fund, Department of the Treasury.

ACTION: New application deadline.

SUMMARY: On December 3, 2004, the Community Development Financial Institutions Fund (the “Fund”) announced in a Notice of Funds Availability (“NOFA”) for the Technical Assistance Component of the CDFI Program (69 FR 70307) that the deadline for applications for Technical Assistance grants for the FY 2005 funding round of the Technical Assistance Component was 5 p.m. ET on January 25, 2005.

This notice is to announce that the Fund has established a new application deadline for the FY 2005 funding round of the Technical Assistance Component of the CDFI Program: Technical Assistance Component applications may be submitted up to 5 p.m. ET on March 7, 2005.

Interested parties should review the December 3, 2004 NOFA for details on the FY 2005 funding round of the Technical Assistance Component and the application process. The December 3, 2004 NOFA, the Technical Assistance Component application, and other related documents may be found on the Fund's Web site at http://www.cdfifund.gov. Interested parties also must note the following information that is specific to applications that are submitted in response to this NOFA amendment:

Any entity that submitted a Technical Assistance Component application in response to the December 3, 2004 NOFA may not submit another application in response to this notice unless the application was rejected by the Fund for reason of incompleteness or lateness. If the Fund rejected the application due to incompleteness or lateness, it may be submitted in response to this notice and will be reviewed for funding so long as it meets the Fund's requirements as set forth in the December 3, 2004 NOFA.

The Fund will review applications in accordance with the policies, procedures and requirements set forth in the December 3, 2004 NOFA. Applications that were submitted in response to the December 3, 2004 NOFA will be reviewed first. Applications submitted in response to this notice will be reviewed after applications submitted in response to the December 3, 2004 NOFA are reviewed. The Fund will make its funding decisions for applications submitted in response to this notice after funding decisions are made regarding applications made in response to the December 3, 2004 NOFA, subject to funding availability.

If an applicant under this notice is required to submit a “Certification of Material Change Form,” it must do so by February 28, 2005. Refer to the December 3, 2004 NOFA for further information.

All other information and requirements set forth in the December 3, 2004 NOFA for the FY 2005 funding round of the Technical Assistance Component shall remain effective, as published.

FOR FURTHER INFORMATION CONTACT: The Fund will respond to applicants' reporting, compliance or disbursement phone calls or e-mail inquiries that are received on or before 5 p.m. ET on March 2, 2005 (2 business days before the new application deadline). The Fund will not respond to reporting or compliance telephone calls or e-mail inquiries that are received after 5 p.m. ET on March 2, 2005 until after the funding application deadline of March 7, 2005.

1. Information technology support: Technical support can be obtained by calling (202) 622-2455 or by e-mail at ithelpdesk@cdfi.treas.gov. People who have visual or mobility impairments that prevent them from creating maps using the Fund's Web site should call (202) 622-2455 for assistance. These are not toll free numbers.

2. Programmatic support: If you have any questions about the programmatic requirements, contact a member of the program staff by e-mail at cdfihelp@cdfi.treas.gov, by telephone at (202) 622-6355, by facsimile at (202) 622-7754, or by mail at CDFI Fund, 601 13th Street, NW., Suite 200 South, Washington, DC 20005. These are not toll-free numbers.

3. Administrative support: If you have any questions regarding administrative requirements, contact the Fund's Grants Manager by e-mail at gmc@cdfi.treas.gov, by telephone at (202) 622-8226, by facsimile at (202) 622-9625, or by mail at CDFI Fund, 601 13th Street, NW., Suite 200 South, Washington, DC 20005. These are not toll free numbers.

4. Compliance support: If you have any questions regarding compliance issues, contact the Fund's Compliance Manager by e-mail at cme@cdfi.treas.gov, by telephone at (202) 622-8226, by facsimile at (202) 622-9625, or by mail at CDFI Fund, 601 13th Street, NW., Suite 200 South, Washington, DC 20005. These are not toll free numbers.

5. Legal counsel support: If you have any questions or matters that you believe require response by the Fund's Office of Legal Counsel, please refer to the document titled “How to Request a Legal Review,” found on the Fund's Web site at http://www.cdfifund.gov.

Authority: 12 U.S.C. 4703; Chapter X, Pub. L. 104-19, 109 Stat. 237.

Dated: February 14, 2005.
Arthur A. Garcia,
Director, Community Development Financial Institutions Fund.

[FR Doc. 05-3224 Filed 2-18-05; 8:45 am]

BILLING CODE 4810-70-P